DEPARTMENT OF ENERGY

Federal Energy Regulatory Commission

[Docket No. EG01-163-000, et al.]

Pinnacle West Energy Corporation, et al. Electric Rate and Corporate Regulation Filings

May 4, 2001.

Take notice that the following filings have been made with the Commission:

1. Pinnacle West Energy Corporation

[Docket No. EG01-163-000]

Take notice that on May 2, 2001, Pinnacle West Energy Corporation (PWE) tendered for filing with the Federal Energy Regulatory Commission (Commission), a Notice of Withdrawal of its Application for Determination of Exempt Wholesale Generator (EWG) Status. PWE states that no parties have intervened or protested the PWE EWG Application, so no party will be prejudiced or otherwise affected by PWE's withdrawal.

Comment date: May 25, 2001, in accordance with Standard Paragraph E at the end of this notice. The Commission will limit its consideration of comments to those that concern the adequacy or accuracy of the application.

2. City of Vernon, California

[Docket No. EL00-105-004]

Take notice that on April 27, 2001, the City of Vernon, California (Vernon) tendered for filing, in compliance with the Commission's March 28, 2001 “Order Accepting In Part And Rejecting In Part Compliance Filing”, 94 FERC ¶ 61,344, a revised Transmission Owner Tariff applicable to its activities as a Participating Transmission Owner.

Vernon states that copies of this filing have been served on each person designated on the official service list compiled by the Secretary in these proceedings.

Comment date: May 29, 2001, in accordance with Standard Paragraph E at the end of this notice.

3. Norton Energy Storage, L.L.C.

[Docket No. EL01-70-000]

Take notice that on April 26, 2001, Norton Energy Storage, L.L.C. (NES) filed with the Federal Energy Regulatory Commission a Petition for Declaratory Order pursuant to Section 385.207 of the Commission's Regulations, 18 CFR 385.207.

NES requests that the Commission declare that transactions involving the delivery of electric energy to NES' Compressed Air Energy Storage (CAES) generating facility (the NES Facility) for storage through the compression of air into a cavern for subsequent release through turbine generators to produce electric energy or ancillary services for sale or exchange at wholesale in interstate commerce are exclusively subject to the Commission's jurisdiction under Section 201 of the Federal Power Act, 16 U.S.C. §§ 824-825r (the FPA).

NES states that it is developing its CAES generating facility at the site of an abandoned limestone mine in the City of Norton, Summit County, Ohio, near Akron. NES represents that the NES Facility will eventually include 2,700 MW of capacity, to be constructed in individual increments of 300 MW. According to NES, the NES Facility will be the first compressed air energy storage project to be developed in North America as a merchant facility, and only the third CAES facility in the world. NES states that the NES Facility will employ an innovative technology that will allow NES to “store” electric energy produced in one period for delivery, resale and use during a later period, much as a pumped storage hydroelectric facility does.

NES states that the NES Facility's customers (including traditional public utilities, merchant generators and power marketers) will deliver electric energy to the NES Facility from time to time. This electric energy will be “stored” by compressing air into a sealed underground storage area. NES will maintain the injected air at high pressure until its controlled release through gas-fired turbine generators during peak electric demand periods. In this manner, according to NES, the NES Facility will reclaim the “compression power” used to compress and store air, for purposes of generating electric energy for sale or exchange into wholesale markets. NES asserts that participants in electric energy markets will be able to use the NES Facility as a mechanism by which they can store electric energy obtained in wholesale markets during off-peak periods and exchange it for electric energy or ancillary services made available to wholesale markets during peak periods.

NES asks in its Petition that the Commission confirm that the various ways in which electric energy may be stored and exchanged through the medium of the NES Facility qualify as transactions involving the sale of electric energy and ancillary services for resale in interstate commerce, i.e., as “electric service,” as that term is defined at 18 CFR 35.2(a), subject exclusively to the Commission's FPA jurisdiction.

NES states that it is currently in the process of securing additional equity investors and arranging for the financing of the initial phase of its project. NES asserts that the financial markets, potential equity investors and would-be counter parties all require certainty as to how electric energy transactions involving the NES Facility will be treated for regulatory purposes. NES therefore asks that the requested declaratory order be issued by June 30, 2001.

NES states that it has served copies of its Petition upon representatives of FirstEnergy Corp. and American Electric Power, the public utilities with which it will be interconnected, and upon representatives of the Public Utilities Commission of Ohio and the Attorney General of Ohio. Questions concerning this filing may be directed to counsel for NES, James F. Bowe, Jr., Dewey Ballantine LLP, at (202) 429-1444, fax (202) 429-1579, or jbowe@deweyballantine.com.

Comment date: May 29, 2001, in accordance with Standard Paragraph E at the end of this notice.

4. Western Resources, Inc.

[Docket No. ER98-2157-002]

Take notice that on May 1, 2001, Western Resources, Inc. (Western) and its wholly-owned subsidiary, Kansas Gas and Electric Company (the Companies), tendered for filing the Affidavit of Dr. David B. Patton demonstrating that the Companies continue to satisfy the Commission requirements for market-based rate authority.

Comment date: May 22, 2001, in accordance with Standard Paragraph E at the end of this notice.

5. Boston Edison Company

[Docket No. ER99-35-004]

Take notice that on May 1, 2001, Boston Edison Company tendered for filing certain substitute rate schedule sheets to correct typographical errors in its First Revised Rate Schedule FERC No. 169 filed on April 26, 2001 in compliance with the Commission's order issued March 27, 2001 in this proceeding.

Comment date: May 22, 2001, in accordance with Standard Paragraph E at the end of this notice.

6. ISO New England Inc.

[Docket No. ER01-316-002]

Take notice that on May 1, 2001, ISO New England Inc. tendered for filing its quarterly Index of Customers for its Tariff for Transmission Dispatch and Power Administration Services in accordance with the procedure specified in its filing letter in Docket No. ER01-316-000 dated November 1, 2000, and approved by Commission order issued December 29, 2000.

Comment date: May 22, 2001, in accordance with Standard Paragraph E at the end of this notice.

7. Consumers Energy Company

[Docket No. ER01-1910-000]

Take notice that on April 30, 2001 Consumers Energy Company (Consumers) tendered for filing a Service Agreement with The Detroit Edison Company; Tenaska Power Services Co.; and Aquila Energy Marketing Corporation (Customers) under Consumers—FERC Electric Tariff No. 9 for Market Based Sales.

Consumers requested that the Agreements be allowed to become effective April 1, 2001.

Copies of the filing were served upon the Customers and the Michigan Public Service Commission.

Comment date: May 21, 2001, in accordance with Standard Paragraph E at the end of this notice.

8. Consumers Energy Company

[Docket No. ER01-1911-000]

Take notice that on April 30, 2001 Consumers Energy Company (Consumers) tendered for filing a Service Agreement with Engage Energy America LLC, (Customer) under Consumers—FERC Electric Tariff No. 9 for Market Based Sales.

Consumers requested that the Agreement be allowed to become effective April 1, 2001.

Copies of the filing were served upon the Customer and the Michigan Public Service Commission.

Comment date: May 21, 2001, in accordance with Standard Paragraph E at the end of this notice.

9. Pacific Gas and Electric Company

[Docket No. ER01-1912-000]

Take notice that on April 30, 2001, Pacific Gas and Electric Company (PG&E) tendered for filing an executed Generator Interconnection Agreement (GIA) to replace the unexecuted placeholder GIA that is part of the Generator Special Facilities Agreement (GSFA) between PG&E and Sunrise Cogeneration and Power Company (Sunrise) providing for Special Facilities and the parallel operation of Sunrise's generating facility and the PG&E-owned electric system that is on file with the Commission as Service Agreement No. 2 to PG&E Electric Tariff, Fourth Revised Volume No. 5.

Copies of this filing have been served upon Sunrise, the California Independent System Operator Corporation, and the CPUC.

Comment date: May 21, 2001, in accordance with Standard Paragraph E at the end of this notice.

10. Idaho Power Company

[Docket No. ER01-1913-000]

Take notice that on April 30, 2001, Idaho Power Company tendered for filing a revised long-term service agreement under its open access transmission tariff in the above-captioned proceeding.

Comment date: May 21, 2001, in accordance with Standard Paragraph E at the end of this notice.

11. Nevada Power Company

[Docket No. ER01-1914-000]

Take notice that on April 30, 2001, Nevada Power Company (Nevada Power) tendered for filing an executed Service Agreement (Agreement) with the following Overton Power District No. 5 (Overton). The Agreement is an umbrella agreement which allows Overton to take service Under Nevada Power's FERC Electric Tariff, First Revised Volume No. 4, Electric Service Coordination Tariff (Tariff).

Nevada Power respectfully requests that the Service Agreement become effective April 1, 2001.

Copies of this filing were served upon the Public Utilities Commission of Nevada, and all interested parties.

Comment date: May 21, 2001, in accordance with Standard Paragraph E at the end of this notice.

12. Ameren Services Company

[Docket No. ER01-1915-000]

Take notice that on April 30, 2001, Ameren Services Company (ASC) tendered for filing a Service Agreement for Firm Point-to-Point Transmission Services between ASC and Ameren Energy, Inc. (customer). ASC asserts that the purpose of the Agreement is to permit ASC to provide transmission service to customer pursuant to Ameren's Open Access Tariff.

Comment date: May 21, 2001, in accordance with Standard Paragraph E at the end of this notice.

13. RAMCO, Inc.

[Docket No. ER01-1916-000]

Take notice that on April 30, 2001, RAMCO, Inc. (Applicant), tendered for filing pursuant to Section 205 of the Federal Power Act, and Part 35 of the Commission's regulations, an application for authorization to make sales of capacity, energy, and certain Ancillary Services at market-based rates; to reassign transmission capacity; and to resell firm transmission rights (FTRs).

Applicant proposes to own or lease and operate two approximately 44 MW simple-cycle, natural gas-fired combustion turbine peaking facilities located in San Diego County, Cities of Chula Vista and Escondido, California. Applicant is requesting waiver of the Commission's prior notice regulations as necessary to make its FERC Electric Tariff No. 1 effective as of May 1, 2001. Comment date: May 21, 2001, in accordance with Standard Paragraph E at the end of this notice.

14. Ohio Valley Electric Corporation, Indiana-Kentucky Electric Corporation

[Docket No. ER01-1917-000]

Take notice that on April 27, 2001, Ohio Valley Electric Corporation (including its wholly-owned subsidiary, Indiana-Kentucky Electric Corporation) (OVEC) tendered for filing a Service Agreement for Non-Firm Point-To-Point Transmission Service, dated March 23, 2001 (the Service Agreement) between Allegheny Energy Supply Company, L.L.C. (Allegheny Energy) and OVEC. OVEC proposes an effective date of March 30, 2001 and requests waiver of the Commission's notice requirement to allow the requested effective date.

The Service Agreement provides for non-firm transmission service by OVEC to Allegheny Energy. In its filing, OVEC states that the rates and charges included in the Service Agreement are the rates and charges set forth in OVEC's Open Access Transmission Tariff.

A copy of this filing was served upon Allegheny Energy.

Comment date: May 18, 2001, in accordance with Standard Paragraph E at the end of this notice.

15. Calpine Corporation

[Docket No. EL01-71-000]

Take notice that on April 27, 2001, Calpine Corporation (Calpine) submitted for filing a Petition for an Enforcement Action and/or Declaratory Order and Request for Expedited Treatment pursuant to Section 210(h)(2)(B) of the Public Utility Regulatory Policies Act of 1978 (PURPA), 16 U.S.C.A.§ 824a-3(h)(2)(B) (2000), and Rule 207 of the Commission's Rules of Practice and Procedure, 18 CFR 385.207.

Calpine alleges that Decision 01-03-067, issued by the California Public Utilities Commission (CPUC) on March 28, 2001 (Avoided Cost Decision), violates PURPA Section 210, 16 U.S.C. § 824a-3 which requires, inter alia, that rates for purchases from QFs shall not exceed incremental cost to the utility, nor shall those rates discriminate against qualifying cogenerators or small power producers. The Avoided Cost Decision changes the formula by which avoided cost rates are calculated.

This change violates PURPA, Calpine alleges, for three reasons: (i) The Avoided Cost Decision sets avoided costs in an arbitrary and unlawful manner, without any relationship whatsoever to the purchasing utility's “full avoided costs,” thus violating the PURPA avoided cost mandate; (ii) the Avoided Cost Decision subjects QFs to improper CPUC rate regulation, in contravention of PURPA and; (iii) the Avoided Cost Decision sets payments to QFs at price levels at which QFs cannot economically generate, contrary to the PURPA objective of encouraging generation. Calpine asks this Commission to institute an enforcement action and/or to issue a declaratory order, and requests that it do so using expedited treatment, to grant relief to the QFs from the Avoided Cost Decision.

Comment date: May 25, 2001, in accordance with Standard Paragraph E at the end of this notice.

16. Black Hills Corporation, n/k/a, Black Hills Power, Inc.

[Docket No. ER01-1918-000]

Take notice that on May 1, 2001, Black Hills Corporation, d/b/a Black Hills Power, Inc., a wholly-owned subsidiary of Black Hills Corporation, Inc. (a South Dakota holding corporation), tendered for filing the following long-term service agreements: (1) Surplus Energy Marketing Agreement Between Black Hills Power, Inc. and PacifiCorp Power Marketing, Inc., and (2) Exchange Agreement Between Black Hills Power, Inc., and PacifiCorp Power Marketing, Inc.

Copies of these filings were supplied to PacifiCorp Power Marketing, Inc.

Comment date: May 22, 2001, in accordance with Standard Paragraph E at the end of this notice.

17. Exelon Energy Company

[Docket No. ER01-1919-000]

Take notice that on May 1, 2001, Exelon Energy Company (Exelon Energy) tendered for filing to the Federal Energy Regulatory Commission (FERC or the Commission) a Notice of Succession notifying the Commission that it has succeeded to Unicom Energy, Inc. FERC Rate Schedule No. 1, which was approved by Commission order at Docket No. ER00-2429, as amended and supplemented, in conformance with Order No. 614. Exelon Energy also refiled the Unicom Energy rate schedule as an Exelon Energy rate schedule.

Unicom Energy, Inc. has changed its name to Exelon Energy Company as part of an internal restructuring in which its operations were combined with PECO Energy Company d/b/a Exelon Energy, a successor to Horizon Energy Company. Accordingly, Exelon Energy Company hereby cancels the power sales tariff of Horizon Energy Company and has filed a Notice of Cancellation of the Horizon Energy rate schedule as part of this filing.

Comment date: May 22, 2001, in accordance with Standard Paragraph E at the end of this notice.

18. Idaho Power Company

[Docket No. ER01-1920-000]

Take notice that on May 1, 2001, Idaho Power Company tendered for filing a revised long-term service agreement under its open access transmission tariff in the above-captioned proceeding.

Comment date: May 22, 2001, in accordance with Standard Paragraph E at the end of this notice.

19. PacifiCorp Power Marketing, Inc.

[Docket No. ER01-1921-000]

Take notice that on May 1, 2001, PacifiCorp Power Marketing, Inc. tendered for filing with the Federal Energy Regulatory Commission an Exchange Agreement between Black Hills Power, Inc. and PacifiCorp Power Marketing, Inc., dated as of April 3, 2001.

Comment date: May 22, 2001, in accordance with Standard Paragraph E at the end of this notice.

20. Tucson Electric Power Company

[Docket No. ER01-1922-000]

Take notice that on May 1, 2001, Tucson Electric Power Company tendered for filing one (1) umbrella service agreement (for short-term firm service) and one (1) service agreement (for non-firm service) pursuant to Part II of Tucson's Open Access Transmission Tariff, which was filed in Docket No. ER01-208-000.

The details of the service agreements are as follows:

1. Umbrella Agreement for Short-Term Firm Point-to-Point Transmission Service dated as of January 30, 2001 by and between Tucson Electric Power Company and Colorado River Commission—FERC Electric Tariff Vol. No. 2, Service Agreement No. 155. No service has commenced at this time.

2. Form of Service Agreement for Non-Firm Point-to-Point Transmission Service dated as of January 30, 2001 by and between Tucson Electric Power Company and Colorado River Commission—FERC Electric Tariff Vol. No. 2, Service Agreement No. 156. No service has commenced at this time.

Comment date: May 22, 2001, in accordance with Standard Paragraph E at the end of this notice.

21. American Electric Power Service Corporation

[Docket No. ER01-1923-000]

Take notice that on May 1, 2001, American Electric Power Service Corporation tendered for filing a letter agreement between Appalachian Power Company and Panda Culloden Power, L.P.

AEP requests an effective date of June 29, 2001.

Copies of Appalachian Power Company's filing have been served upon the West Virginia Public Service Commission.

Comment date: May 22, 2001, in accordance with Standard Paragraph E at the end of this notice.

22. UNITIL Power Corp.

[Docket No. ER01-1925-000]

Take notice that on May 1, 2001, UNITIL Power Corp. tendered for filing pursuant to Schedule II Section H of Supplement No. 1 to Rate Schedule FERC Number 1, the UNITIL System Agreement, the following material:

1. Statement of all sales and billing transactions for the period January 1, 2000 through December 31, 2000 along with the actual costs incurred by UNITIL Power Corp. by FERC account.

2. UNITIL Power Corp. rates billed from January 1, 2000 to December 31, 2000 and supporting rate development.

Comment date: May 22, 2001, in accordance with Standard Paragraph E at the end of this notice.

23. New England Power Pool

[Docket No. ER01-1926-000]

Take notice that on May 1, 2001, the New England Power Pool (NEPOOL) Participants Committee tendered for filing for acceptance materials to permit NEPOOL to expand its membership to include Axia Energy, L.P. (Axia) and to terminate the memberships of Entergy Power Marketing Corporation (EPMC) and Koch Energy Trading, Inc. NEPOOL requests a February 1, 2001 effective date for the commencement of Axia's participation in and the termination of EPMC and KETI from NEPOOL.

The Participants Committee states that copies of these materials were sent to the New England state governors and regulatory commissions and the Participants in NEPOOL.

Comment date: May 22, 2001, in accordance with Standard Paragraph E at the end of this notice.

24. Southern California Edison Company

[Docket No. ER01-1927-000]

Take notice that on May 1, 2001, Southern California Edison Company (SCE) tendered for filing the Interconnection Facilities Agreement (Interconnection Agreement) between SCE and the City of Riverside (Riverside).

This agreement specifies the terms and conditions pursuant to which SCE will construct certain interconnection facilities to facilitate the wholesale Distribution Service SCE provides to Riverside pursuant to SCE's Wholesale Distribution Access Tariff, FERC Electric Tariff Original Volume No. 5.

Copies of this filing were served upon the Public Utilities Commission of the State of California and Riverside.

Comment date: May 22, 2001, in accordance with Standard Paragraph E at the end of this notice.

25. Central Maine Power Company

[Docket No. ER01-1928-000]

Take notice that on May 1, 2001, Central Maine Power Company (CMP), tendered for filing as an initial rate schedule pursuant to Section 35.12 of the Federal Energy Regulatory Commission's (the Commission) regulations, 18 C.F.R. § 35.12, (i) an unexecuted Form of Service Agreement for Non-Firm Local Point-to-Point Transmission Service between CMP and S.D. Warren Company (S.D. Warren), and (ii) an unexecuted Form of Service Agreement for Non-Firm Local Point-to-Point Transmission Service between CMP and Engage Energy America LLC (Engage), designated as Original Service Agreements 123 and 124, respectively, to CMP's FERC Electric Tariff, Fifth Revised Volume No. 3.

CMP is requesting that these unexecuted transmission service agreements become effective March 30, 2001.

Copies of this filing have been served upon the Commission, the Maine Public Utilities Commission, S.D. Warren, and Engage.

Comment date: May 22, 2001, in accordance with Standard Paragraph E at the end of this notice.

26. Jersey Central Power & Light Company; Metropolitan Edison Company; Pennsylvania Electric Company

[Docket No. ER01-1929-000]

Take notice that on May 1, 2001, Jersey Central Power & Light Company, Metropolitan Edison Company and Pennsylvania Electric Company (individually doing business as GPU Energy), submitted for filing a Notice of Cancellation of the Service Agreement between GPU Service Corporation and National Electric Associates, LP, FERC Electric Tariff, Original Volume No. 1, Service Agreement No. 21.

GPU Energy requests that cancellation be effective June 27, 2001.

Comment date: May 22, 2001, in accordance with Standard Paragraph E at the end of this notice.

27. Jersey Central Power & Light Company; Metropolitan Edison Company; Pennsylvania Electric Company

[Docket No. ER01-1930-000]

Take notice that on May 1, 2001, Jersey Central Power & Light Company, Metropolitan Edison Company and Pennsylvania Electric Company (individually doing business as “GPU Energy”) submitted for filing a Notice of Cancellation of the Service Agreement between GPU Service Corporation and Federal Energy Sales, Inc., FERC Electric Tariff, Original Volume No. 1, Service Agreement No. 41.

GPU Energy requests that cancellation be effective the June 27, 2001.

Comment date: May 22, 2001, in accordance with Standard Paragraph E at the end of this notice.

28. Jersey Central Power & Light Company; Metropolitan Edison Company; Pennsylvania Electric Company

[Docket No. ER01-1931-000]

Take notice that on May 1, 2001, Jersey Central Power & Light Company, Metropolitan Edison Company and Pennsylvania Electric Company (individually doing business as “GPU Energy”) submitted for filing a Notice of Cancellation of the Service Agreement between GPU Service, Inc. and The Power Company of America, LP, FERC Electric Tariff, Original Volume No. 1, Service Agreement No. 64.

GPU Energy requests that cancellation be effective June 27, 2001.

Comment date: May 22, 2001, in accordance with Standard Paragraph E at the end of this notice.

29. Jersey Central Power & Light Company; Metropolitan Edison Company; Pennsylvania Electric Company

[Docket No. ER01-1932-000]

Take notice that on May 1, 2001, Jersey Central Power & Light Company, Metropolitan Edison Company and Pennsylvania Electric Company (individually doing business as GPU Energy) submitted for filing a Notice of Cancellation of the Service Agreement between GPU Energy and Wheeled Electric Power Company, FERC Electric Tariff, Original Volume No. 1, Service Agreement No. 90.

GPU Energy requests that cancellation be effective June 27, 2001.

Comment date: May 22, 2001, in accordance with Standard Paragraph E at the end of this notice.

30. Jersey Central Power & Light Company; Metropolitan Edison Company; Pennsylvania Electric Company

[Docket No. ER01-1933-000]

Take notice that on May 1, 2001, Jersey Central Power & Light Company, Metropolitan Edison Company and Pennsylvania Electric Company (individually doing business as GPU Energy) submitted for filing a Notice of Cancellation of the Service Agreement between GPU Service Corporation and MidCon Power Services Corporation (now Kinder Morgan, Inc.), FERC Electric Tariff, Original Volume No. 1, Service Agreement No. 19.

GPU Energy requests that cancellation be effective June 27, 2001.

Comment date: May 22, 2001, in accordance with Standard Paragraph E at the end of this notice.

31. Ameren Services Company

[Docket No. ER01-1934-000]

Take notice that on April 30, 2001, Ameren Services Company (ASC) tendered for filing a Service Agreement for Firm Point-to-Point Transmission Services between ASC and Axia Energy, Inc. (customer). ASC asserts that the purpose of the Agreement is to permit ASC to provide transmission service to customer pursuant to Ameren's Open Access Tariff.

ASC respectfully requests that the Service Agreement become effective April 1, 2001.

Comment date: May 21, 2001, in accordance with Standard Paragraph E at the end of this notice.

32. New England Power Pool

[Docket No. ER01-1935-000]

Take notice that on May 1, 2001, the New England Power Pool (NEPOOL) Participants Committee filed for acceptance materials to permit NEPOOL to expand its membership to include Dominion Retail, Inc. (DRI), Exelon Generation Company, LLC (Exelon); Indeck Energy-Alexandria, LLC (IEA), and Massachusetts Public Interest Research Group, Inc. (MASSPIRG ).

The Participants Committee requests an effective date of May 1, 2001 for commencement of participation in NEPOOL by DRI, Exelon, and MASSPIRG, and July 1, 2001 for the commencement of participation in NEPOOL by IEA.

The Participants Committee states that copies of these materials were sent to the New England state governors and regulatory commissions and the Participants in NEPOOL.

Comment date: May 22, 2001, in accordance with Standard Paragraph E at the end of this notice.

33. Florida Power Corporation

[Docket No. ER01-1924-000]

Take notice that on May 1, 2001, Florida Power Corporation (Florida Power), tendered for filing revisions to the capacity charges, reservation fees and energy adders for various interchange services provided by Florida Power pursuant to interchange contracts as follows:

Rate schedule | Customer
65 | Southeastern Power Administration.
80 | Tampa Electric Company.
81 | Florida Power & Light Company.
82 | City of Homestead.
86 | Orlando Utilities Commission.
88 | Gainesville Regional Utility.
91 | Jacksonville Electric Authority.
92 | City of Lakeland.
94 | Kissimmee Utility Authority.
95 | City of St. Cloud.
101 | City of Lake Worth.
102 | Florida Power & Light Company.
103 | City of Starke.
104 | City of New Smyrna Beach.
105 | Florida Municipal Power Agency.
108 | City of Key West.
119 | Reedy Creek Improvement District.
122 | City of Tallahassee.
128 | Seminole Electric Cooperative, Inc.
139 | Oglethorpe Power Corporation.
141 | City of Vero Beach.
142 | Big Rivers Electric Corporation.
148 | Alabama Electric Cooperative, Inc.
153 | Enron Power Marketing, Inc.
154 | Catex Vitol Electric, L.L.C.
155 | Louis Dreyfus Electric Power, Inc.
156 | Electric Clearing House, Inc.
157 | LG&E Power Marketing, Inc.
158 | MidCon Power Service Corp.
159 | Koch Power Services Company.
161 | Citizens Lehman Power Sales.
162 | AES Power, Inc.
163 | Intercoast Power Marketing Company.
164 | Valero Power Service Company.
167 | NorAm Energy Services, Inc.
168 | Western Power Services.
169 | CNG Power Services Corporation.
170 | Calpine Power Services Company.
171 | SCANA Energy Marketing, Inc.
172 | PanEnergy Trading & Market Services.
173 | Coral Power, L.L.C.
174 | Aquila Power Corporation.
175 | The Energy Authority, Inc.
176 | NP Energy Inc.
177 | Morgan Stanley Capital Group, Inc.

The interchange services which are affected by these revisions are (1) Service Schedule A—Emergency Service; (2) Service Schedule B—Short Term Firm Service; (3) Service Schedule D—Firm Service; (4) Service Schedule F—Assured Capacity and Energy Service; (5) Service Schedule G—Backup Service; (6) Service Schedule H—Reserve Service; (7) Service Schedule l—Regulation Service; (8) Service Schedule OS—Opportunity Sales; (9) Service Schedule RE—Replacement Energy Service; (10) Contract for Assured Capacity and Energy With Florida Power & Light Company; (11) Contract for Scheduled Power and Energy with Florida Power & Light Company.

Florida Power also is tendering changes to the real power loss factors under its Open Access Transmission Tariff (OATT) and the OATT of Carolina Power & Light Company.

Florida Power requests that the amended revised capacity charges, reservation fees and energy adder be made effective on May 1, 2001. Florida Power requests waiver of the Commission's sixty-day notice requirement. If waiver is denied, Florida Power requests that the filing be made effective 60 days after the filing date.

Copies of the filing were served on each of the customer affected by this filing.

Comment date: May 22, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-11769 Filed 5-9-01; 8:45 am]

BILLING CODE 6717-01-P